DEPARTMENT OF ENERGY

Federal Energy Regulatory Commission

[Docket No. CP01-40-000]

Bitter Creek Pipelines, LLC; Notice of Petition for Declaratory Order

December 5, 2000.

Take notice that on November 30, 2000, Bitter Creek Pipelines, LLC, (Bitter Creek), 1250 West Century Avenue, Bismarck, North Dakota 58503, filed a petition for declaratory order in Docket No. CP01-40-000, requesting that the Commission declare that certain field compressor stations located in Yuma and Logan Counties, Colorado, and Cheyenne County, Kansas to be acquired from Kinder Morgan Interstate Gas Transmission LLC (KM) would have the primary function of gathering of natural gas and would thereby be exempt from the Commission's jurisdiction pursuant to Section 1(b) of the Natural Gas Act (NGA), all as more fully set forth in the petition which is on file with the Commission and open to public inspection. This filing may be viewed on the web at http://www.ferc.fed.us/online/rims.htm (call 202-208-2222).

Bitter Creek states that it and KM have entered into a Compressor Purchase Agreement (Agreement), dated June 5, 2000, in which KM has agreed to sell and Bitter Creek has agreed to purchase 12 field compressor stations from KM. Bitter Creek states that these field compressors are situated at the intersection of KM's interstate pipeline and with various gathering facilities located in Yuma and Logan Counties, Colorado, and Cheyenne County, Kansas. Bitter Creek states that as part of the Agreement, KM has agreed to obtain abandonment authority from the Commission for these 12 field compressors and will report the abandonment of these facilities under § 157.216 of the Commission's Regulations and KMs blanket authority.

Bitter Creek states that after the acquisition of the facilities by Bitter Creek, the operation of the facilities will not change. Bitter Creek states that the primary function of the facilities will be gathering as the only gas being compressed through the facilities is local production from wells and gathering lines connected to the facilities. Bitter Creek states that no interruption, reduction, or termination of service to parties receiving service through these compressors has occurred since Bitter Creek began operating the field compressors effective June 1, 2000. No interruption is expected to occur upon Bitter Creek's acquisition of the facilities.

Bitter Creek submits that, just as the Commission has determined in numerous prior proceedings involving the spin-off of pipeline facilities to third-party purchasers, the primary function of the facilities to be acquired in this proceeding is that of gathering, consistent with the criteria set forth in Farmland Industries, Inc. (23 FERC ¶ 61,063 (1983), as modified in subsequent orders, thus qualifying them as exempt gathering facilities under the NGA.

Any questions concerning this application may be directed to Bitter Creek's counsel, Robert T. Hall, III, of Thelen Reid & Priest LLP, at (202) 508-4000.

Any person desiring to be heard or to protest with reference to said petition should on or before December 26, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protectors provide copies of of their protests to the party or parties directly involved. Any person to become a party to a proceeding or to participate as a party in any hearing therein must file a motion to intervene in accordance with the Commission's rules. Comments and protests may be filed electronically via the internet in lieu of paper. See, 18 CFR 385.200(a)(1)(iii) and the instructions on the Commission's web site at http://www.ferc.fed.us/efi/doorbell.htm.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Bitter Creek to appear or be represented at the hearing.

David P. Boergers,
Secretary.

[FR Doc. 00-31422 Filed 12-8-00; 8:45 am]

BILLING CODE 6717-01-M